DEPARTMENT OF COMMERCE

National Institute of Standards and Technology

Announcement of a Public Meeting To Discuss the USG IPv6 Testing Program

AGENCY: National Institute of Standards and Technology, Commerce.

ACTION: Notice of public meeting.

SUMMARY: The National Institute of Standards and Technology (NIST) invites interested parties, including accreditors, testing laboratories and test equipment suppliers, to attend a meeting regarding the conformity assessment scheme proposed for the evaluation of Internet Protocol Version 6 (IPv6) products to be purchased by federal agencies. The purpose of the meeting is to announce details of the proposed testing program for IPv6 devices, and specifically, to identify potential accreditation bodies to participate in the program.

DATES: The workshop will be held on February 19, 2008, from 9 a.m. till 5 p.m.

ADDRESSES: The workshop will be held at National Institute of Standards and Technology, 100 Bureau Drive, Gaithersburg, MD 20899, Building 101, Lecture Room B.

FOR FURTHER INFORMATION CONTACT: Stephen Nightingale, 301 975 4171, usgv6-project@antd.nist.gov.

SUPPLEMENTARY INFORMATION: In June 2005 the Office of Management and Budget initiated a policy to expedite adoption and deployment of IPv6 within the Federal Government (http://www.whitehouse.gov/omb/memoranda/fy2005/m05-22.pdf). As part of this policy, NIST was directed to develop a standard to address IPv6 compliance for the Federal Government. In response, NIST has developed NIST SP 500-267 “A Profile for IPv6 in the U.S. Government” that provides such a standard and outlines the basic parameters for a compliance testing program. (see: http://www.antd.nist.gov/usgv6/.)

The USG IPv6 Testing Program will require that products document claims of compliance to the profile through a Supplier's Declaration of Conformity (SDOC) in accordance with ISO/IEC 17050. Such declarations will be traceable to specific test results from laboratories accredited to the specific requirements of the IPv6 Test Program, including full compliance with ISO/IEC 17025—General requirements for the competence of testing and calibration laboratories. Laboratory accreditation will be provided by bodies operating in accordance with ISO/IEC 17011—General requirements for accreditation bodies accrediting conformity assessment bodies.

The scope of laboratory accreditation includes test methods for computer network protocol conformance and interoperability testing based on open public test suites. The detailed set of test methods and validation procedures are still under development. One purpose of this meeting is to discuss the general plans for the development and execution of the test program and to identify parties interested in collaborating in the further development of its details.

Provisional Agenda

1. The USG IPv6 profile, its components and timing constraints.

2. Accreditor qualification.

3. Test method validation.

4. Suppliers Declaration of Conformity.

5. Discussion.

All intending participants must register in advance, to gain access to the campus. Due to space limitations, there is a limit of 60 participants in this workshop. Precedence will be given to the first two representatives of each accreditation body and IPv6 testing laboratory. Please register early and designate your primary representative, in case there is a further need, due to a high response rate, to limit participation to one representative per organization to ensure that all interested parties can participate. Access to the NIST campus and the room cannot be guaranteed for unregistered participants.

Dated: January 31, 2008.
Richard F. Kayser,
Acting Deputy Director.

[FR Doc. E8-2223 Filed 2-6-08; 8:45 am]

BILLING CODE 3510-13-P